DEPARTMENT OF AGRICULTURE

Forest Service

Information Collection; Youth Conservation Corps Application and Medical History

AGENCY: Forest Service, USDA.

ACTION: Notice; request for comment.

SUMMARY: In accordance with the Paperwork Reduction Act of 1995, the Forest Service is seeking comments from all interested individuals and organizations on the extension, with no revision, of a currently approved information collection, Youth Conservation Corps Application and Medical History. The collected information will help the Forest Service evaluate the employment eligibility of youth 15 to 18 years old through the Youth Conservation Corps Program. Under the Program, the Forest Service cooperates with other Federal agencies to provide seasonal employment for youth.

DATES: Comments must be received in writing on or before January 19, 2010 to be assured of consideration. Comments received after that date will be considered to the extent practicable.

ADDRESSES: Comments concerning this notice should be addressed to Crystal Merica, USDA Forest Service, Recreation, Heritage, and Volunteer Resources, 201 14th Street, SW., Mailstop 1125, Washington, DC 20250.

Comments also may be submitted via facsimile to 202-205-1145 or by e-mail to: ckmerica@fs.fed.us.

The public may inspect comments received at USDA Forest Service, Yates Building, 201 14th Street, SW., Room 4 Central, Washington, DC, during normal business hours. Visitors are encouraged to call ahead to 202-205-1706 to facilitate entry to the building.

FOR FURTHER INFORMATION CONTACT: Nancy Coyote, Recreation, Heritage, and Volunteer Resources staff, at 503-808-2816. Individuals who use telecommunication devices for the deaf (TDD) may call the Federal Relay Service (FRS) at 1-800-877-8339 twenty-four hours a day, every day of the year, including holidays.

SUPPLEMENTARY INFORMATION: Title: Youth Conservation Corps Application and Medical History.

OMB Number: 0596-0084.

Expiration Date of Approval: 2/2010.

Type of Request: Extension of a currently approved collection.

Abstract: Under the Youth Conservation Corps Act of August 13, 1970, as amended (U.S. 18701-1706), the Forest Service, U.S. Department of Agriculture; the Fish and Wildlife Service, National Park Service; and the Bureau of Land Management, U.S. Department of the Interior, cooperate to provide seasonal employment for eligible youth 15 to 18 years old. The Youth Conservation Corps stresses three important objectives:

1. Accomplish needed conservation work on public lands;

2. Provide gainful employment for 15- to 18-year-old males and females from all social, economic, ethnic, and racial backgrounds; and

3. Foster, on the part of the 15- to 18-year-old youth, an understanding and appreciation of the Nation's natural resources and heritage.

Youths seeking training and employment with the Youth Conservation Corps must complete the following forms: FS-1800-18, Youth Conservation Corps Application, and FS-1800-3, Youth Conservation Corps Medical History. The applicant's parent or guardian must sign both forms. The application and medical history form are evaluated by participating agencies to determine the eligibility of each youth for employment with the Youth Conservation Corps.

FS-1800-18, Youth Conservation Corps (YCC) Application: Applicants are asked to answer questions that include their name, Social Security number, date of birth, mailing address, and telephone number.

FS-1800-3, Youth Conservation Corps Medical History: Applicants are asked to answer questions regarding their personal health. The purpose of form FS-1800-3 is to certify the youth's physical fitness to work in the seasonal employment program.

Estimate of Annual Burden: 6 minutes.

Type of Respondents: Youth between the ages of 15 and 18 years old seeking seasonal employment with the Forest Service through the YCC program.

Estimated Annual Number of Respondents: 20,000.

Estimated Annual Number of Responses per Respondent: 2.

Estimated Total Annual Burden on Respondents: 2,000 hours.

Comment is invited on: (1) Whether this collection of information is necessary for the stated purposes and the proper performance of the functions of the agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 13, 2009.
Gloria Manning,
Associate Deputy Chief, National Forest System.

[FR Doc. E9-27832 Filed 11-18-09; 8:45 am]

BILLING CODE 3410-11-P